DEPARTMENT OF THE INTERIOR

Fish and Wildlife Service

[Docket No. FWS-HQ-IA-2016-0054; FXIA16710900000-156-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, U.S. Fish and Wildlife Service, Division of Management Authority, Branch of Permits, MS: IA, 5275 Leesburg Pike, Falls Church, VA 22041; fax (703) 358-2281.

FOR FURTHER INFORMATION CONTACT: Brenda Tapia, (703) 358-2104 (telephone); (703) 358-2281 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
59838B | The Wild Animal Sanctuary | 80 FR 47947; August 10, 2015 | 10/13/2015
63281B | University of Tennessee | 80 FR 53323; September 3, 2015 | 11/5/2015
63550B | Houston Zoo, Inc | 80 FR 55868; September 17, 2015 | 12/11/2015
756101 | Rare Species Conservatory Foundation | 80 FR 55868; September 17, 2015 | 01/04/2016
676508 | Six Flags Discovery Kingdom | 80 FR 55868; September 17, 2015 | 1/21/2016
64786B | Peter Langegger | 80 FR 58768; September 30, 2015 | 01/13/2015
76168B | Luke Snyder | 80 FR 58768; September 30, 2015 | 11/10/2015
75313B | Wildlife & Environmental Conservation, Inc | 80 FR 58768; September 30, 2015 | 12/01/2015
63829B | City of Bridgeton/Cohanzick Zoo | 80 FR 58768; September 30, 2015 | 12/26/2015
64101B | University of Colorado | 80 FR 58768; September 30, 2015 | 12/11/2015
78222B | Michael Long | 80 FR 62089; October 15, 2015 | 11/24/2015
76169B | Joshua Braun | 80 FR 62089; October 15, 2015 | 11/25/2015
74563B | Cheadle Center for Biodiversity and Ecological Restoration | 80 FR 62089; October 15, 2015 | 12/08/2015
66556B | Abilene Zoological Gardens | 80 FR 62089; October 15, 2015 | 12/09/2015
77387B | St. Catherines Island Foundation | 80 FR 62089; October 15, 2015 | 12/15/2015
59839B | The Wild Animal Sanctuary | 80 FR 62089; October 15, 2015 | 12/11/2015
61197B | Megan Cattau | 80 FR 64441; October 23, 2015 | 12/02/15
68848B | Toledo Zoological Gardens | 80 FR 68554; November 5, 2015 | 02/10/16
68850B | Toledo Zoological Gardens | 80 FR 68554; November 5, 2015 | 02/09/16
73299B | Palm Beach Zoo and Conservation Society | 80 FR 68554; November 5, 2015 | 02/18/2016
71725B | Fox Brown Outfitters | 80 FR 68554; November 5, 2015 | 3/11/2016
78797B | David Hessler | 80 FR 70249; November 13, 2015 | 02/11/2016
79073B | Margaret Williams | 80 FR 70249; November 13, 2015 | 02/11/2016
71096B | Point Defiance Zoo & Aquarium | 80 FR 70249; November 13, 2015 | 02/25/2016
677611 | Sacramento Zoological Society, dba Sacramento Zoo | 80 FR 70249; November 13, 2015 | 2/24/2016
71724B | Fox Brown Outfitters | 80 FR 70249; November 13, 2015 | 3/11/2016
66999B | Angelica Rodriquez/American Museum of Natural History | 80 FR 70249; November 13, 2015 | 2/23/2016
80785B | Kevin Poynter | 80 FR 73207; November 24, 2015 | 1/27/2016
75301B | Big Cat Rescue Corporation | 80 FR 73207; November 24, 2015 | 3/16/2016
80817B | David Twiss | 80 FR 76567; December 9, 2015 | 02/11/2016
73358B | The Ohio State University | 80 FR 76567; December 9, 2015 | 02/24/2016
81679B | Gregory Fowler | 80 FR 76567; December 9, 2015 | 1/27/2016
64789B | Serpentarium Magic Inc | 80 FR 76567; December 9, 2015 | 01/28/2016
81224B | Erhardt Steinborn | 80 FR 76567; December 9, 2015 | 1/27/2016
61689B | Memphis Zoo | 80 FR 79607; December 22, 2015 | 02/11/16
094332 | Molecular Anthropology Laboratory, ASU | 81 FR 791; January 7, 2016 | 02/17/2016
084874 | University of New Mexico | 81 FR 791; January 7, 2016 | 02/11/2016
80481B | Duke Lemur Center | 81 FR 2899; January 19, 2016 | 02/23/2016
81711B | Toledo Zoological Gardens | 81 FR 5778; February 3, 2016 | 02/24/2016
78584B | Zoological Society of San Diego | 81 FR 5778; February 3, 2016 | 03/16/16

Marine Mammals
Permit No. | Applicant | Receipt of application Federal Register notice | Permit issuance date
68000B | John Downer Productions Ltd | 80 FR 62089; October 15, 2015 | 3/16/2016

Availability of Documents

Documents and other information submitted with these applications are available for review, subject to the requirements of the Privacy Act and Freedom of Information Act, by any party who submits a written request for a copy of such documents to: U.S. Fish and Wildlife Service, Division of Management Authority, Branch of Permits, MS: IA, 5275 Leesburg Pike, Falls Church, VA 22041; fax (703) 358-2281.

Brenda Tapia,
Program Analyst/Data Administrator, Branch of Permits, Division of Management Authority.

[FR Doc. 2016-06787 Filed 3-24-16; 8:45 am]

BILLING CODE 4333-15-P